DEPARTMENT OF HEALTH AND HUMAN SERVICES

Administration for Community Living

45 CFR Part 1323

RIN 0985-AA14

Grants for Supportive and Nutritional Services to Older Hawaiian Natives Program

AGENCY: Administration for Community Living (ACL); HHS.

ACTION: Proposed rule.

SUMMARY: This rule removes unnecessary regulations for the Grants for Supportive and Nutritional Services to Older Hawaiian Natives program awarded under Older Americans Act. The regulations were promulgated in 1988. Since that time ACL's Administration on Aging has worked with stakeholders to clarify guidance and issues through the regular grant application, reporting and technical assistance processes, eliminating the need for additional regulations. This particular program has only one formula grantee in Hawaii, and the regulations are duplicative of statutory language. The removal of the regulations will not create any challenges for the Supportive and Nutritional Services to Older Hawaiian Natives program or for other programs funded under the Older Americans Act.

DATES: Submit either electronic or written comments on this document by September 3, 2019.

ADDRESSES: Submit comment to Vicki Gottlich, Director, Center for Policy and Evaluation, Administration for Community Living, U.S. Department of Health and Human Services, by email at Vicki.Gottlich@acl.hhs.gov or by mail at 330 C Street SW, Washington, DC 20201.

FOR FURTHER INFORMATION CONTACT: Vicki Gottlich, Director, Center for Policy and Evaluation, Administration for Community Living, U.S. Department of Health and Human Services, by phone at (202) 795 or by email at Vicki.Gottlich@acl.hhs.gov.

SUPPLEMENTARY INFORMATION: In response to Executive Order 13777, Sec. 3(d), which directs agencies to repeal existing regulations that are “outdated, unnecessary or ineffective” from the Code of Federal Regulations (CFR), HHS is removing 45 CFR part 1323, Grants for Supportive and Nutritional Services to Older Hawaiian Natives. The action is expected to be non-controversial, as it merely removes certain provisions from the CFR that are unnecessary and duplicative of statutory language. In the future, details regarding the process for requesting a hearing should an application be denied will be included in the grant application package for this program. Given the length of time (30 years) since this particular regulation has been promulgated, it is HHS's assessment that the agency is unlikely to receive any comments opposing the repeal of this regulation. This rule poses no new substantive requirements or burdens on the public, as well as no cost savings or imposed costs.

Background

45 CFR part 1323 follows Title VI (part B) of the Older Americans Act, as amended, establishing the requirements that a public or nonprofit private organization must meet in order to receive a grant to promote the delivery of services for older Hawaiian Natives that are comparable to services provided under Title III of the Older Americans Act. This regulation also prescribes application and hearing requirements and procedures for these grants. There has not been a proliferation of regulations developed for this program since the base regulation was developed in 1988. Since that time, ACL's Administration on Aging has worked with worked with stakeholders to clarify guidance and issues through the regular grant application, reporting and technical assistance processes, eliminating the need for additional regulations. Rescission of this rule will have little to no impact on the implementation of the program, and while deregulation will not decrease burden, this regulation is no longer necessary. There is no legal risk or mitigation required in rescinding this regulation. Additionally, this rule is not economically significant. This particular program has only one formula grantee in Hawaii.

Executive Orders 12866, 13563, 13771, and 13777

Executive Orders 12866 and 13563 direct agencies to assess all costs and benefits of available regulatory alternatives and, if regulation is necessary, to select regulatory approaches that maximize net benefits (including potential economic, environmental, public health and safety effects, distributive impacts, and equity). Executive Order 13771 directs agencies to categorize all impacts which generate or alleviate costs associated with regulatory burden and to determine the actions net incremental effect.

Section 3(f) of Executive Order 12866 defines a “significant regulatory action” as an action that is likely to result in a rule: (1) Having an annual effect on the economy of $100 million or more in any 1 year, or adversely and materially affecting a sector of the economy, productivity, competition, jobs, the environment, public health or safety, or State, local or Tribal governments or communities (also referred to as “economically significant”); (2) creating a serious inconsistency or otherwise interfering with an action taken or planned by another agency; (3) materially altering the budgetary impacts of entitlement grants, user fees, or loan programs or the rights and obligations of recipients thereof; or (4) raising novel legal or policy issues arising out of legal mandates, the President's priorities, or the principles set forth in the Executive Order.

A regulatory impact analysis (RIA) must be prepared for major rules with economically significant effects ($100 million or more in any 1 year). HHS submits that this proposed rule is not “economically significant” as measured by the $100 million threshold, and hence not a major rule under the Congressional Review Act. This rule has not been designated as a “significant regulatory action” under Executive Order 12866. Accordingly, this rule has not been reviewed by the Office of Management and Budget (OMB).

Executive Order 13771, titled “Reducing Regulation and Controlling Regulatory Costs,” was issued on January 30, 2017. HHS identifies this proposed rule as a deregulatory action (removing an obsolete rule from the Code of Federal Regulations). For the purposes of Executive Order 13771, this proposed rule is not a substantive rule; rather it is administrative in nature and provides no cost savings.

Executive Order 13777, titled “Enforcing the Regulatory Reform Agenda,” was issued on February 24, 2017. As required by Section 3 of this Executive Order, HHS established a Regulatory Reform Task Force (HHS Task Force). Pursuant to Section 3(d)(ii), the HHS Task Force evaluated this rulemaking and determined that these regulations are “outdated, unnecessary, or ineffective.” Following this finding, the HHS Task Force advised the HHS ACL Administrator to initiate this rulemaking to remove the unnecessary regulation from the Code of Federal Regulations.

Regulatory Flexibility Act

This action will not have a significant economic impact on a substantial number of small entities, especially since it would only affect one small stakeholder in Hawaii (the sole grantee). Therefore, the regulatory flexibility analysis provided for under the Regulatory Flexibility Act is not required.

Paperwork Reduction Act

This action does not affect any information collections.

List of Subjects in 45 CFR Part 1323

Administrative practice and procedure, Aged, Colleges and universities, Grant programs—Education, Grant programs—Indians, Grant programs—social programs, Indians, Individuals with disabilities, Legal services, Long term care, Nutrition, Research, Reporting and recordkeeping requirements.

PART 1323—[REMOVED]

For the reasons stated in the preamble, and under the authority of 5 U.S.C. 501, the Administration for Community Living, Department of Health and Human Services proposes to remove 45 CFR part 1323.

Lance Robertson,
Administrator and Assistant Secretary for Aging, Administration for Community Living.
Alex M. Azar II,
Secretary, Department of Health and Human Services.

[FR Doc. 2019-13849 Filed 7-3-19; 8:45 am]

BILLING CODE 4154-01-P